ENVIRONMENTAL PROTECTION AGENCY

[EPA-HQ-OAR-2024-0134-FRL-11831-02-OAR]

Opportunity for Stakeholder Engagement in the ENERGY STAR Products Program Plans

AGENCY: Environmental Protection Agency (EPA).

ACTION: Notice.

SUMMARY: The Environmental Protection Agency (EPA) is announcing an opportunity for public input on ENERGY STAR product specification development activities. Since its creation in 1992, the ENERGY STAR program has grown to designate highly efficient products in more than 75 categories, all of which are independently certified. EPA relies on broad stakeholder engagement to develop and maintain its ENERGY STAR product specifications and grow and evolve the products portfolio. Through its products work, the Agency also looks for innovative ways to accelerate market movement to greater efficiency.

ADDRESSES: The ENERGY STAR products specification 2025 annual workplan is posted on the ENERGY STAR website at https://www.energystar.gov/partner_resources/products_partner_resources/brand-owner/spec-dev-efforts to allow interested parties to determine how they wish to engage with the EPA to track progress and share feedback. If you are not an ENERGY STAR partner and wish to stay informed about these specification development activities, please email join@energystar.gov to be added to the mailing list. The general public may also track specific opportunities for public input on the ENERGY STAR Products Partner public notices webpage— https://www.energystar.gov/partner_resources/products_partner_resources/public-notices.

FOR FURTHER INFORMATION CONTACT: Kathleen Vokes, Acting Supervisor ENERGY STAR Product Specifications Branch, Office of Atmospheric Programs (6202A), Environmental Protection Agency, 1200 Pennsylvania Ave. NW, Washington, DC 20460; telephone number: 202-343-9019; email address: vokes.kathleen@epa.gov.

Authority: 42 U.S.C. 6294; 42 U.S.C. 7403.

Jean Lupinacci,
Director, Climate Protection Partnerships Division.

[FR Doc. 2024-31032 Filed 1-13-25; 8:45 am]

BILLING CODE 6560-50-P